ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Iowa, Mississippi, and North Carolina.

DATES: This notice is effective upon publication in the Federal Register.

FOR FURTHER INFORMATION CONTACT: Bryan Whitener, telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates.

The submissions from Iowa, Mississippi, and North Carolina address material changes to their original State plans. Iowa provides additional detail regarding various aspects of HAVA implementation. Mississippi addresses a change in the State's approach to procuring new voting equipment and provides an updated timeline for the implementation of the required statewide voter registration database. North Carolina provides a revised budget for the use of HAVA funds received. In accordance with HAVA section 254(a)(12), the documents also provide information on how the States succeeded in carrying out their previous State plan. Upon the expiration of 30 days from June 29, 2005, Mississippi and North Carolina will be eligible to implement any material changes addressed in the State plan published herein, in accordance with HAVA section 254(a)(11)(C).

EAC notes that the plans published herein have already met the notice and comment requirements of HAVA section 256, as required by HAVA section 254(a)(11)(B). EAC wishes to acknowledge the effort that went into the revising the State plan and encourages further public comment, in writing, to the chief election officials of Mississippi and North Carolina.

Thank you for your interest in improving the voting process in America.

Chief State Election Officials

Iowa

The Honorable Chester J. Culver, Secretary of State, First Floor, Lucas Building, 321 E. 12th St., Des Moines, IA 50319, phone: 515-281-0145, Fax: 515-281-7142, e-mail: sos@sos.state.ia.us.

Mississippi

The Honorable Eric Clark, Secretary of State, P.O. Box 136, Jackson, MS 39205-0136, phone: 601-359-1350, Fax: 601-359-1499, e-mail: administrator@sos.state.ms.us.

North Carolina

Mr. Gary O. Bartlett, State Board of Elections, 6400 Mail Service Center, Raleigh, NC 27699-6400, phone: 919-733-7173, Fax: 919-715-0135, e-mail: elections.sboe@ncmail.net.

Dated: June 22, 2005.
Gracia M. Hillman,
Chair, U.S. Election Assistance Commission.

BILLING CODE 6820-KF-P

[FR Doc. 05-12685 Filed 6-28-05; 8:45 am]

BILLING CODE 6820-KF-C